DEPARTMENT OF ENERGY

Office of Environmental Management

Notice of Availability of Draft Section 3116 Determination Idaho Nuclear Technology and Engineering Center Tank Farm Facility

AGENCY: U.S. Department of Energy.

ACTION: Notice of availability.

SUMMARY: The Department of Energy (DOE) announces the availability of a draft determination that certain residual radioactive waste at the Idaho Nuclear Technology and Engineering Center (INTEC) Tank Farm Facility, located at the Idaho National Laboratory, is not high-level radioactive waste. DOE prepared the draft determination pursuant to Section 3116 of the Ronald W. Reagan National Defense Authorization Act for Fiscal Year 2005. Although not required by the Act, DOE is making the draft determination available for public review and comment.

DATES: The comment period will end on October 28, 2005. Comments received after this date will be considered to the extent practicable.

ADDRESSES: The draft waste determination is available on the Internet at http://apps.em.doe.gov/idwd/, and is publicly available for review at the following locations: U.S. Department of Energy, Public Reading Room, 1000 Independence Avenue, SW., Washington, DC 20585, Phone: (202) 586-5955, or Fax: (202) 586-0575; and U.S. Department of Energy Idaho, Public Reading Room, 1776 Science Center Drive, Idaho Falls, Idaho 83415, Phone: (208) 526-9162, or Fax: (208) 526-1697. Written comments should be addressed to: Mr. Matthew Duchesne, U.S. Department of Energy, Office of Environmental Management, EM-2, 1000 Independence Avenue, SW., Washington, DC 20585. Alternatively, comments can be filed electronically by e-mail to emidahotankfarmwd@hq.doe.gov, or by Fax at (202) 586-4314.

SUPPLEMENTARY INFORMATION: The Tank Farm Facility (TFF) at INTEC consists of eleven 300,000-gallon, below-grade, stainless-steel tanks in unlined concrete vaults; four 30,000-gallon, below-grade, stainless-steel tanks; and associated ancillary equipment and piping. Historically, the TFF tanks were used to store various INTEC wastes, including those from reprocessing spent nuclear fuel, decontamination waste, laboratory waste, and contaminated liquids from other INTEC operations. DOE is currently in the process of closing the TFF, a process that includes consolidating remaining wastes in the minimum number of tanks necessary, and then cleaning the empty tanks and ancillary equipment. After completing cleaning operations, a small amount of residual radioactive waste that cannot be removed remains in the tanks and ancillary equipment. DOE plans to stabilize this residual waste, as well as the TFF system overall, by filling the system with grout.

Section 3116 of the Ronald W. Reagan National Defense Authorization Act for Fiscal Year 2005 authorizes the Secretary of Energy, in consultation with the Nuclear Regulatory Commission (NRC), to determine that certain waste from reprocessing spent nuclear fuel is not high-level waste (HLW) and that it may instead be disposed of as low-level waste (LLW) if it meets the criteria set forth in Section 3116. The draft determination sets forth the basis for concluding that the TFF residual wastes, as well as the tanks, vaults, and associated piping, structures, and equipment will meet all of those criteria, and thus is not high-level waste.

Final Determination: DOE will issue a final determination following the completion of consultation with the NRC, and consideration of any public comments.

Issued in Washington, DC, on September 8, 2005.
Charles E. Anderson,
Principal Deputy Assistant Secretary for Environmental Management.

[FR Doc. 05-18224 Filed 9-13-05; 8:45 am]

BILLING CODE 6450-01-P